DEPARTMENT OF THE INTERIOR

Bureau of Land Management

[MT-070-00-1020-PA]

Supplementary Rule Regarding Operation of Motorized Vehicles in Developed Recreation Sites on Public Lands in Montana

AGENCY: Bureau of Land Management, Interior.

ACTION: Establishment of a Supplementary Rule establishing guidelines for the operation of off-road vehicles within developed recreational sites on public lands administered by the BLM Butte Field Office in the state of Montana.

SUMMARY: Off-road vehicle use in developed recreation sites has resulted in conflicts between vehicle operators and other public land site visitors. Safety hazards occur with unlimited vehicle use in congested, developed recreation sites. Vehicle operation off roadways in developed campgrounds and picnic areas has caused considerable damage to natural resources and public property resulting in increased operational and maintenance costs. The developed recreation sites listed below shall be closed to the use and operation of off-road vehicles from April 15 thru October 15. Off-road vehicle operation outside these dates shall be limited to existing roads, parking lots and campsite pull-ins. Sites administered by the Butte Field Office affected by this restriction notice include:

Yellowstone River—Carbella.

Big Hole River—East Bank, Dickie Bridge, Bryant Creek, Jerry Creek, Upper and Lower Divide.

Missouri River—Upper and Lower Toston, Devils Elbow, Holter Dam, Holter Lake, Log Gulch and Departure Point.

This Supplementary Rule is issued under authority of 43 CFR 8365.1-6.

Penalties: As prescribed under the Federal Land Policy and Management Act, 43 USC Section 1733(a). Violation is punishable by fines and/or imprisonment under 43 CFR 8360.0-7.

EFFECTIVE DATE: To comply with the Administrative Procedures Act, this Supplementary Rule will go into effect 30 days after publication in the Federal Register if no substantive negative comments are received and will remain in effect until rescinded or modified by the authorized officer.

FOR FURTHER INFORMATION CONTACT: Steve Hartmann, Acting Field Manager, P.O. Box 3388, Butte, Montana 59702, 406-494-5059.

Dated: January 12, 2000.
Steve Hartmann,
Acting Field Manager.

[FR Doc. 00-1673 Filed 1-27-00; 8:45 am]

BILLING CODE 4310-DN-P